FEDERAL COMMUNICATIONS COMMISSION

47 CFR Part 73

[DA 01-92, MM Docket No. 00-186, RM-9970]

Radio Broadcasting Services; Rapid City, South Dakota, Gillette, Wyoming

AGENCY: Federal Communications Commission.

ACTION: Final rule.

SUMMARY: At the request of Bethesda Christian Broadcasting, Inc., licensee of Station KLMP, Rapid City, South Dakota, the Commission substitutes Channel 250C for 250C1 at Rapid City, modifies the license of Station KLMP's license accordingly, and substitutes Channel 282A for vacant Channel 249A at Gillette, Wyoming, to accommodate the upgrade at Rapid City. See 65 FR 60602 (October 12, 2000). Channel 250C can be allotted at Rapid City, South Dakota, at coordinates 44-19-42 and 103-50-03, at petitioner's requested site. Channel 282A can be allotted at Gillette, Wyoming at coordinates 44-17-36 and 105-30-06 at a site 0.25 kilometers (0.25 miles) north of the community.

DATES: Effective March 5, 2001.

FOR FURTHER INFORMATION CONTACT: Victoria M. McCauley, Mass Media Bureau, (202) 418-2180.

SUPPLEMENTARY INFORMATION: This is a synopsis of the Commission's Report and Order, MM Docket No. 00-186, adopted January 3, 2001, and released January 12, 2001. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

2. Section 73.202(b) the FM Table of Allotments under South Dakota is amended by removing Channel 250C1 at Rapid City and adding Channel 250C at Rapid City.

3. Section 73.202(b) the FM Table of Allotments under Wyoming is amended by removing Channel 249A at Gillette and adding Channel 282A at Gillette.

Federal Communications Commission.
John A. Karousos,
Chief, Allocations Branch, Policy and Rules Division, Mass Media Bureau.

[FR Doc. 01-2281 Filed 1-25-01; 8:45 am]

BILLING CODE 6712-01-U